DEPARTMENT OF DEFENSE

Department of the Army, Corps of Engineers

Miami-Dade Back Bay Coastal Storm Risk Management Feasibility Study

AGENCY: Department of the Army, U.S. Army Corps of Engineers, DoD.

ACTION: Notice of Intent/NEPA Scoping meeting and public comment period.

SUMMARY: In accordance with all applicable laws and regulations, the U.S. Army Corps of Engineers (USACE) plans to prepare a Feasibility Study with an integrated Environmental Impact Statement (EIS) to evaluate environmental impacts from reasonable project alternatives to protect low-lying and flood-prone areas of Miami-Dade County, Florida, from hurricanes and other coastal storms with their associated wind, storm surge, and coastal flooding.

DATES: Scoping comments may be submitted until August 23, 2019.

ADDRESSES: The public is invited to submit NEPA scoping comments to Ms. Carissa Agnese, Department of the Army, U.S. Army Corps of Engineers, Norfolk District, Fort Norfolk, 803 Front St., Norfolk, VA 23510 or via email: Carissa.R.Agnese@usace.army.mil. The project title and the commenter's contact information should be included with submitted comments.

FOR FURTHER INFORMATION CONTACT: Carissa Agnese, (757) 201-7752.

SUPPLEMENTARY INFORMATION: Applicable laws and regulations are section 102(2)(C) of the National Environmental Policy Act (NEPA) of 1969, as amended, 42 U.S.C. 4321-4370, as implemented by the Council on Environmental Quality Regulations (40 CFR parts 1500-1508). The study authority is Public Law 84-71, which authorized the examination and survey of the coastal and tidal areas of the eastern and southern United States, with particular reference to areas where severe damages have occurred from hurricane winds and tides. The primary problem is that existing protection is not adequate to prevent excessive storm damage and flooding from occurring during major coastal storms. Coastal flooding is worsening due to climate change induced sea level rise, which is also amplifying storm surge height. These trends are expected to continue and worsen due to sea level rise accelerating over time, a trend already observed in recent decades. Measures being considered include ringwalls, floodwalls, storm surge barriers, buyouts/elevations of buildings, wet and/or dry flood-proofing of buildings, relocating structures and utilities, and nature-based features potentially including mangrove restoration, oyster and/or coral reef restoration, and seagrass restoration.

USACE is the lead federal agency and Miami-Dade County will be the non-federal sponsor for the study. The Study/EIS will address the primary problem of the increasing storm damage and flooding occurring and expected to increase in the area by studying all reasonable alternatives and determine the Federal interest in cost-sharing for those alternatives.

As required by Council on Environmental Quality's Principles, Requirements and Guidelines for Water and Land Related Resources Implementation Studies all reasonable alternatives to the proposed Federal action that meet the purpose and need will be considered in the EIS. These alternatives will include no action and a range of reasonable alternatives for protecting the shoreline and structures in Miami-Dade County, Florida.

Susan L. Conner,
Chief, Planning and Policy, Norfolk District USACE.

[FR Doc. 2019-15292 Filed 7-17-19; 8:45 am]

BILLING CODE 3720-58-P